DEPARTMENT OF HEALTH AND HUMAN SERVICES

Health Resources and Services Administration

Meeting of the National Advisory Committee on the National Health Service Corps

AGENCY: Health Resources and Services Administration (HRSA), Department of Health and Human Services (HHS).

ACTION: Notice.

SUMMARY: In accordance with the Federal Advisory Committee Act, this notice announces that the National Advisory Committee on the National Health Service Corps (NACNHSC) will hold public meetings for the 2021 calendar year (CY). Information about NACNHSC, agendas, and materials for these meetings can be found on the NACNHSC website at https://nhsc.hrsa.gov/about/national-advisory-council-nhsc/index.html.

DATES: NACNHSC meetings will be held on

• March 16, 2021, 9:00 a.m.-5:00 p.m. Eastern Time (ET) and March 17, 2021, 9:00 a.m.-2:00 p.m. ET;

• June 22, 2021, 9:00 a.m.-5:00 p.m. ET and June 23, 2021, 9:00 a.m.-2:00 p.m. ET;

• November 9, 2021, 9:00 a.m.-5: 00 p.m. ET and November 10, 2021, 9:00 a.m.-2:00 p.m. ET.

ADDRESSES: Meetings may be held in-person, by teleconference, and/or Adobe Connect webinar. For updates on how the meeting will be held, visit the NACNHSC website 30 business days before the date of the meeting, where instructions for joining meetings either in-person or remotely will also be posted. In-person NACNHSC meetings will be held at 5600 Fishers Lane, Rockville, Maryland 20857. For meeting information updates, go to the NACNHSC website meeting page at https://nhsc.hrsa.gov/nac/meetings.html.

FOR FURTHER INFORMATION CONTACT: Diane Fabiyi-King (DFO), Division of National Health Service Corps, Bureau of Health Workforce, HRSA, 5600 Fishers Lane, Rockville, Maryland 20857; 301-443-3609; or NHSCAdvisoryCouncil@hrsa.gov.

SUPPLEMENTARY INFORMATION: NACNHSC provides advice and recommendations to the Secretary of HHS (Secretary) on policy, program development, and other matters of significance concerning the activities under Subpart II, Part D of Title III of the Public Health Service Act (42 U.S.C. 254d-254k). NACNHSC designates areas of the United States with health professional shortages and assigns National Health Service Corps clinicians to improve the delivery of health services in health professional shortage areas. Since priorities dictate meeting times and agenda items, be advised that start times, end times, and agenda items are subject to change. For CY 2021 meetings, agenda items may include, but are not limited to, the identification of NACNHSC priorities for future program issues and concerns; propose policy changes using the varying levels of expertise represented on the Council to advise on specific program areas; updates from clinician workforce experts; and education and practice improvement in the training development of primary care clinicians. More general items may include: Presentations and discussions on the current and emerging needs of health workforce; public health priorities; healthcare access and evaluation; NACNHSC-approved sites; HRSA priorities and other federal health workforce and education programs that impact the NACNHSC.

Refer to the NACNHSC website listed above for all current and updated information concerning the CY 2021 NACNHSC meetings, including draft agendas and meeting materials that will be posted 30 calendar days before the meeting.

Members of the public will have the opportunity to provide comments. Public participants may submit written statements in advance of the scheduled meeting(s). Oral comments will be honored in the order they are requested and may be limited as time allows. Requests to submit a written statement or make oral comments to the NACNHSC should be sent to Diane Fabiyi-King using the contact information above at least 5 business days before the meeting date(s).

Individuals who need special assistance or another reasonable accommodation should notify Diane Fabiyi-King using the contact information listed above at least 10 business days before the meeting(s) they wish to attend.

If a meeting is held in-person, it will occur in a federal government building and attendees must go through a security check to enter. Non-U.S. Citizen attendees must notify HRSA of their planned attendance at an in-person meeting at least 20 business days prior to the meeting in order to facilitate their entry into the building. All attendees are required to present government-issued identification prior to entry.

Maria G. Button,
Director, Executive Secretariat.

[FR Doc. 2021-00093 Filed 1-7-21; 8:45 am]

BILLING CODE 4165-15-P